DEPARTMENT OF THE INTERIOR

Fish and Wildlife Service

[FWS-R9-IA-2009-N0053; 96300-1671-0000-P5]

Receipt of Applications for Permit

AGENCY: Fish and Wildlife Service, Interior.

ACTION: Notice of receipt of applications for permit.

SUMMARY: We, the U.S. Fish and Wildlife Service, invite the public to comment on the following applications to conduct certain activities with endangered species and marine mammals. Both the Endangered Species Act and the Marine Mammal Protection Act require that we invite public comment on these permit applications.

DATES: Written data, comments or requests must be received by April 13, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: James W. Thomas, Emory University School of Medicine, Atlanta, GA, PRT-202379

The applicant requests a permit to acquire from Coriell Cell Repositories, Camden, NJ, in interstate commerce DNA samples from a male Sumatran orangutan (Pongo abelli), a male northern white-cheeked gibbon (Nomascus leucogenys), and a male western gorilla (Gorilla gorilla) for the purpose of scientific research. This notification covers the one-time acquisition.

Applicant: Duke University Lemur Center, Durham, NC, PRT-203347

The applicant requests a permit to import up to 10 (four males and six females) grey mouse lemurs (Microcebus murinus) from the Departement d'Ecologie et Gestion de la Biodiversite, Brunoy, France, for the purpose of enhancement of the survival of the species. This notification covers the one-time import to be conducted by the applicant.

Applicant: Stanford University, Barsh Laboratory, Stanford, CA, PRT-204613

The applicant requests a permit to import biological samples from cheetah (Acinonyx jubatus) collected by Cheetah Conservation Fund in Namibia for the purpose of scientific research into population genetics. This notification covers activities to be conducted by the applicant over a five-year period.

Applicant: Brigham and Woman's Hospital, Boston, MA, PRT-205571

The applicant requests a permit to acquire from Coriell Institute, Camden, NJ, in interstate commerce DNA and cell line samples from gorilla (Gorilla gorilla) for the purpose of scientific research. This notification covers the one-time acquisition.

Applicant: Fish and Wildlife Service, Office of Law Enforcement, Arlington, VA, PRT-691650

The applicant requests renewal of a permit to export/re-export and import/re-import any endangered or threatened species for the explicit purpose of investigation and other law enforcement activities in order to enhance the survival of the species in the wild. This notification covers activities to be conducted by the applicant over a five-year period.

Applicant: Stephen P. Monti, Mount Kisco, NY, PRT-207161

The applicant requests a permit to import the sport-hunted trophy of one male bontebok (Damaliscus pygargus pygargus) culled from a captive herd maintained under the management program of the Republic of South Africa, for the purpose of enhancement of the survival of the species.

Applicant: Winnie G. Raymond, Harshaw, WI, PRT-207087 (GS)

The applicant requests a permit to import the sport-hunted trophy of one male bontebok (Damaliscus pygargus pygargus) culled from a captive herd maintained under the management program of the Republic of South Africa, for the purpose of enhancement of the survival of the species.

Applicant: Thomas Productions, Inc., Las Vegas, NV, PRT'S-066158, 066159, 097784, 097785, 097787, 203511

The applicant requests permits to export/re-export and re-import tigers (Panthera tigris) to worldwide locations for the purpose of enhancement of the species through conservation education. The permit numbers and animals are: New—203511, Kaos; Re-issue permits—066158, Sampson; 066159, Starr; 097784, Rocky; 097785, Maxmillian; 097787, Mercury. This notification covers activities to be conducted by the applicant over a three-year period and the import of any potential progeny born while overseas.

Marine Mammals

The public is invited to comment on the following application for a permit to conduct certain activities with marine mammals. The application was submitted to satisfy requirements of the Marine Mammal Protection Act of 1972, as amended (16 U.S.C. 1361 et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: Alaska Museum of Natural History, Anchorage, AK, PRT-200587

The applicant requests a permit to acquire a northern sea otter skeleton (Enhydra lutris kenyoni) obtained as a carcass from Alaskan waters near Homer for the purpose of public display.

Concurrent with the publication of this notice in the Federal Register, the Division of Management Authority is forwarding copies of the above applications to the Marine Mammal Commission and the Committee of Scientific Advisors for their review.

Dated: March 6, 2009.
Lisa J. Lierheimer,
Senior Permit Biologist, Branch of Permits, Division of Management Authority.

[FR Doc. E9-5444 Filed 3-12-09; 8:45 am]

BILLING CODE 4310-55-P